DEPARTMENT OF TRANSPORTATION

Federal Aviation Administration

14 CFR Part 71

[Docket No. FAA-2016-9559; Airspace Docket No. 16-ACE-11]

Amendment of Class D and E Airspace for the Following Missouri Towns; Cape Girardeau, MO; St. Louis, MO; and Macon, MO

AGENCY: Federal Aviation Administration (FAA), DOT.

ACTION: Final rule.

SUMMARY: This action modifies Class D airspace at Spirit of St. Louis Airport, St. Louis, MO; Class E airspace designated as a surface area at Cape Girardeau Regional Airport, Cape Girardeau, MO, and Spirit of St. Louis Airport; Class E airspace designated as an extension at Cape Girardeau Regional Airport; and Class E airspace extending upward from 700 feet above the surface at Cape Girardeau Regional Airport, Spirit of St. Louis Airport, and Macon-Fower Memorial Airport, Macon, MO. Cancellation of standard instrument approach procedures at these airports prompted the FAA to conduct a review of the airspace. Additionally, the name of Cape Girardeau Regional Airport (formerly Cape Girardeau Municipal Airport) and the geographic coordinates of St. Louis Regional Airport; Alton/St. Louis, IL; the OBLIO Locator Outer Marker (LOM); and the Macon-Fower Memorial Airport are being adjusted to coincide with the FAA's aeronautical database. The airspace designation for Macon-Fower, MO, in Class E airspace extending upward from 700 feet above the surface is being removed as it is a duplicate entry of the Macon, MO, airspace designation.

DATES: Effective 0901 UTC, May 24, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace at Spirit of St. Louis Airport, St. Louis, MO; Class E airspace designated as a surface area at Cape Girardeau Regional Airport and Spirit of St. Louis Airport; Class E airspace designated as an extension at Cape Girardeau Regional Airport; and Class E airspace extending upward from 700 feet above the surface at Cape Girardeau Regional Airport, Spirit of St. Louis Airport, and Macon-Fower Memorial Airport, Macon, MO, to support IFR operations at these airports.

History

The FAA published a notice of proposed rulemaking in the Federal Register (82 FR 28426; June 22, 2017) for Docket No. FAA-2016-9559 to modify Class D airspace at Spirit of St. Louis Airport, St. Louis, MO; Class E airspace designated as a surface area at Cape Girardeau Regional Airport and Spirit of St. Louis Airport; Class E airspace designated as an extension at Cape Girardeau Regional Airport; and Class E airspace extending upward from 700 feet above the surface at Cape Girardeau Regional Airport, Spirit of St. Louis Airport, and Macon-Fower Memorial Airport, Macon, MO. Interested parties were invited to participate in this rulemaking effort by submitting written comments on the proposal to the FAA. No comments were received.

Subsequent to publication, the FAA discovered that the geographic coordinates for the St. Louis Lambert International runway 24, 12R, and 30L localizers were omitted in the Class E airspace extending upward from 700 feet above the surface at St. Louis, MO. These facilities and geographic coordinates have been included in the airspace description in this action. The Spirit of St. Louis localizer has also been correctly named the Spirit of St. Louis Runway 26L Localizer to correspond with the FAA's aeronautical database. Additionally, in the airspace description of Class E airspace extending upward from 700 feet or more above the surface for Lambert-St. Louis International Airport, the reciprocal bearing (259° vice 079°) from the Spirit of St. Louis localizer was listed incorrectly and has been corrected in this action. Also, the state referencing St Louis Regional Airport is corrected from MO to IL.

Finally, to comply with a recent change to FAA Order 7400, 2L, Procedures for Handling Airspace Matters, this action amends the headers to the city and state only and removes the names of the cities that precede the airport name.

Except for the changes noted above, this rule is the same as published in the NPRM.

Class D and E airspace designations are published in paragraph 5000, 6002, 6004 and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 modifies:

Class D airspace at Cape Girardeau Regional Airport (formerly Cape Girardeau Municipal Airport) by updating the name of the airport to coincide with the FAA's aeronautical database;

Class D airspace to within a 4.4-mile radius (increased from a 4.3-mile radius) at Spirit of St. Louis Airport, St. Louis, MO, adding an extension within 1 mile each side of the 079° bearing from the airport extending from the 4.4-mile radius to 4.6 miles east of the airport, adjusts the extension west of the airport to within 1 mile each side of the 259° bearing (previously 258°) from the airport extending from the 4.4-mile radius to 4.6 miles west of the airport, and updates the header of the airspace description to St. Louis, MO (previously St. Louis, Spirit of St. Louis Airport, MO) to comply with FAA Order 7400.2L;

Class E airspace designated as a surface area at Cape Girardeau Regional Airport (formerly Cape Girardeau Municipal Airport) by adding the vertical limits from the surface to and including 2,800 feet, adding the part time language to the description, and updating the name of the airport to coincide with the FAA's aeronautical database;

Class E airspace designated as a surface area to within a 4.4-mile radius (increased from a 4.3-mile radius) at Spirit of St. Louis Airport, St. Louis, MO, adding an extension to within 1 mile each side of the 079° bearing from the airport extending from the 4.4-mile radius to 4.6 miles east of the airport, adding an extension within 1 mile each side of the 259° bearing from the airport extending from the 4.4-mile radius to 4.6 miles west of the airport, and updating the header of the airspace description to St. Louis, MO (previously St. Louis, Spirit of St. Louis Airport, MO) to comply with FAA Order 7400.2L;

Class E airspace designated as an extension to Class E surface area at Cape Girardeau Regional Airport (formerly Cape Girardeau Municipal Airport), Cape Girardeau, MO, by adding an extension 1 mile each side of the 023° bearing from the airport from the 4.1-mile radius of the airport to 4.4 miles to the north of the airport, adjusting the extension to the east of the airport to within 1 mile (decreased from 2.6 miles) each side of the 108° bearing from the Cape Girardeau Regional Localizer (previously the Cape Girardeau VOR/DME) from the 4.1-mile radius to 4.4 miles east of the airport, adjusting the extension to the south of the airport to within 2.4 miles (previously 2.6 miles) each side of the 196° (previously 194°) radial of the Cape Girardeau VOR/DME from the 4.1-mile radius of the airport extending to 7.2 miles (increased from 5.7 miles), adjusting the extension west of the airport to within 1 mile (decreased from 2.6 miles) each side of the 287° (previously 279°) radial from the Cape Girardeau VOR/DME from the 4.1-mile radius to 4.4 miles (decreased from 7.4 miles) west of the airport, and updating the name of the airport to coincide with the FAA's aeronautical database;

Class E airspace areas extending upward from 700 feet above the surface:

At Cape Girardeau Regional Airport, Cape Girardeau, MO, by adding an extension to the north of the airport within 2 miles each side of the 203° bearing from the airport from the 6.6-mile radius of the airport to 7.3 miles, adjusting the extension to the east to within 3.8 miles (increased from 2.5 miles) each side of the 108° bearing from the Cape Girardeau Localizer (previously from the Cape Girardeau VOR/DME) extending from the 6.6-mile radius to 14 miles (increased from 8.7 miles), adjusting the extension to the south of the airport to within 2.4 miles (reduced from 3 miles) each side of the 196° radial (previously 194°) from the Cape Girardeau VOR/DME from the 6.6-mile radius to 7.2 miles (decreased from 10 miles) south of the airport, adding an extension within 1.9 miles each side of the 023° bearing from the airport from the 6.6-mile radius of the airport to 7.5 miles south of the airport, adjusting the extension to the west of the airport to within 2 miles (reduced from 3 miles) each side of the 280° (previously 279°) bearing from the airport (previously the Cape Girardeau VOR/DME) extending from the 6.6-mile radius to 7.4 miles (decreased from 8.7 miles) west of the airport, and updating the name of the airport to coincide with the FAA's aeronautical database;

By removing the Class E airspace areas extending upward from 700 feet above the surface at Macon-Fower, MO, as it is a duplicate entry of the Macon, MO, Class E airspace areas extending upward from 700 feet above the surface;

Within a 6.7-mile radius (increased from a 6.5-mile radius) of Macon-Fower Memorial Airport, Macon, MO, and updating the geographic coordinates of the airport to coincide with the FAA's aeronautical database.

And within a 6.9-mile radius (increased from a 6.8-mile radius) of the Spirit of St. Louis Airport, St. Louis, MO, adding an extension 4.2 miles north and 6.4 miles south of the 079° bearing from the Spirit of St. Louis Runway 26L Localizer extending from the 6.6-mile radius of the airport to 11.3 miles east of the Spirit of St. Louis Runway 26L Localizer, adding an extension within 2.5 miles each side of the 079° bearing from the airport from the 6.9-mile radius to 8.1 miles east of the airport, adjusting the extension to the west of the airport to within 3.9 miles each side of the 259° (previously 258°) bearing from the airport extending from the 6.9-mile radius to 10.6 miles west of the airport, removing an extension west of the airport referencing the Foristell VORTAC, removing the Foristell VORTAC from the description, and updating the geographic coordinates for St. Louis Regional Airport, Alton/St. Louis, IL, and the OBLIO LOM to coincide with the FAA's aeronautical database.

This action also makes an editorial change in the airspace description for Class D and Class E airspace designated as a surface area replacing Airport/Facility Directory with the current term Chart Supplement.

Lastly, to comply with recent changes to FAA Order 7400.2L, this action removes the city name from the airport name in the airspace designations for Spirit of St. Louis Airport, St. Louis Regional Airport, Lambert-St. Louis International Airport, and St. Charles County Smartt Airport to comply with FAA Order 7400.2L.

Airspace reconfiguration is necessary due to the cancellation of standard instrument approach procedures at these airports, and for the safety and the management of IFR operations.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ACE MO D Cape Girardeau, MO [Amended]

Cape Girardeau Regional Airport, MO

(Lat. 37°13′31″ N, long. 89°34′15″ W)

That airspace extending upward from the surface to and including 2,800 feet within a 4.1-mile radius of Cape Girardeau Regional Airport. This Class D airspace area is effective during the specific dates and times established in advance by a Notice to Airmen. The effective date and time will thereafter be continuously published in the Chart Supplement.

* * * * *

ACE MO D St. Louis, MO [Amended]

Spirit of St. Louis Airport, MO

(Lat. 38°39′44″ N, long. 90°39′07″ W)

That airspace extending upward from the surface to and including 3,000 feet within a 4.4-mile radius of Spirit of St. Louis Airport, and within 1 mile each side of the 079° bearing from the airport extending from the 4.4-mile radius to 4.6 miles east of the airport, and within 1 mile each side of the 259° bearing from the airport extending from the 4.4-mile radius to 4.6 miles west of the airport, excluding that airspace within the St. Louis, MO Class B airspace area. This Class D airspace area is effective during the specific dates and times established in advance by a Notice to Airmen. The effective dates and times will thereafter be continuously published in the Chart Supplement.

Paragraph 6002 Class E Surface Airspace.

* * * * *

ACE MO E2 Cape Girardeau, MO [Amended]

Cape Girardeau Regional Airport, MO

(Lat. 37°13′31″ N, long. 89°34′15″ W)

That airspace extending upward from the surface to and including 2,800 feet within a 4.1-mile radius of the Cape Girardeau Regional Airport. This Class E airspace area is effective during the specific dates and times established in advance by a Notice to Airmen. The effective date and time will thereafter be continuously published in the Chart Supplement.

* * * * *

ACE MO E2 St. Louis, MO [Amended]

Spirit of St. Louis Airport, MO

(Lat. 38°39′44″ N, long. 90°39′07″ W)

That airspace extending upward from the surface to and including 3,000 feet within a 4.4-mile radius of Spirit of St. Louis Airport, and within 1 mile each side of the 079° bearing from the airport extending from the 4.4-mile radius to 4.6 miles east of the airport, and within 1 mile each side of the 259° bearing from the airport extending from the 4.4-mile radius to 4.6 miles west of the airport, excluding that airspace within the St. Louis, MO Class B airspace area. This Class E airspace area is effective during the specific dates and times established in advance by a Notice to Airmen. The effective dates and times will thereafter be continuously published in the Chart Supplement.

Paragraph 6004 Class E Airspace Designated as an Extension to Class E Surface Area.

* * * * *

ACE MO E4 Cape Girardeau, MO [Amended]

Cape Girardeau Regional Airport, MO

(Lat. 37°13′31″ N, long. 89°34′15″ W)

Cape Girardeau Regional Localizer

(Lat. 37°13′18″ N, long. 89°33′25″ W)

Cape Girardeau VOR/DME

(Lat. 37°13′39″ N, long. 89°34′21″ W)

That airspace extending upward from the surface within 1 mile each side of the 023° bearing from the airport extending from the 4.1-mile radius to 4.4 miles north of the airport, and within 1 mile each side of the 108° bearing from the Cape Girardeau Localizer extending from the 4.1-mile radius to 4.4 miles east of the airport, and within 2.4 miles each side of the 196° radial of the Cape Girardeau VOR/DME extending from the 4.1-mile radius of the airport to 7.2 miles south of the airport, and within 1 mile each side of the 287° radial of the Cape Girardeau VOR/DME extending from the 4.1-mile radius of the airport to 4.4 miles west of the airport.

Paragraph 6005 Class E Airspace Areas Extending Upward From 700 Feet or More Above the Surface of the Earth.

* * * * *

ACE MO E5 Cape Girardeau, MO [Amended]

Cape Girardeau Regional Airport, MO

(Lat. 37°13′31″ N, long. 89°34′15″ W)

Cape Girardeau Regional Localizer

(Lat. 37°13′18″ N, long. 89°33′25″ W)

Cape Girardeau VOR/DME

(Lat. 37°13′39″ N, long. 89°34′21″ W)

That airspace extending upward from 700 feet above the surface within a 6.6-mile radius of the airport, and within 1.9 miles each side of the 023° bearing from the airport extending from the 6.6-mile radius to 7.3 miles north of the airport, and within 3.8 miles each side of the 108° bearing from the Cape Girardeau Localizer extending from the 6.6-mile radius to 14 miles east of the airport, and within 2.4 miles each side of the 196° radial of the Cape Girardeau VOR/DME extending from the 6.6-mile radius to 7.2 miles south of the airport, and within 2 miles each side of the 203° bearing from the airport from the 6.6-mile radius to 7.5 miles south of the airport, and within 2 miles each side of the 280° bearing from the airport extending from the 6.6-mile radius to 7.4 miles west of the airport.

* * * * *

ACE MO E5 Macon-Fower, MO [Removed]

* * * * *

ACE MO E5 Macon, MO [Amended]

Macon-Fower Memorial Airport, MO

(Lat. 39°43′47″ N, long. 92°27′24″ W)

That airspace extending upward from 700 feet above the surface within a 6.7-mile radius of Macon-Fower Memorial Airport.

* * * * *

ACE MO E5 St. Louis, MO [Amended]

Lambert-St. Louis International Airport, MO

(Lat. 38°44′55″ N, long. 90°22′12″ W)

Spirit of St. Louis Airport, MO

(Lat. 38°39′44″ N, long. 90°39′07″ W)

St. Louis Regional Airport, IL

(Lat. 38°53′24″ N, long. 90°02′46″ W)

St. Charles County Smartt Airport, MO

(Lat. 38°55′47″ N, long. 90°25′48″ W)

St. Louis Lambert International Runway 24 Localizer

(Lat. 38°44′44″ N, long. 90°23′04″ W)

St. Louis Lambert International Runway 12R Localizer

(Lat. 38°44′10″ N, long. 90°20′36″ W)

St. Louis Lambert International Runway 30L Localizer

(Lat. 38°45′44″ N, long. 90°22′56″ W)

St. Louis VORTAC

(Lat. 38°51′38″ N, long. 90°28′57″ W)

ZUMAY LOM

(Lat. 38°47′17″ N, long. 90°16′44″ W)

OBLIO LOM

(Lat. 38°48′01″ N, long. 90°28′29″ W)

Spirit of St. Louis Runway 26L Localizer

(Lat. 38°39′26″ N, long. 90°39′48″ W)

Civic Memorial NDB

(Lat. 38°53′32″ N, long. 90°03′23″ W)

That airspace extending upward from 700 feet above the surface within a 7.1-mile radius of Lambert-St. Louis International Airport, and within 4 miles southeast and 7 miles northwest of the Lambert-St. Louis International Airport Runway 24 ILS Localizer course extending from the airport to 10.5 miles northeast of the ZUMAY LOM, and within 4 miles southwest and 7.9 miles northeast of the Lambert-St. Louis International Airport Runway 12R ILS Localizer course extending from the airport to 10.5 miles northwest of the OBLIO LOM, and within 4 miles southwest and 7.9 miles northeast of the Lambert-St. Louis International Airport Runway 30L ILS localizer course extending from the airport to 8.7 miles southeast of the airport, and within a 6.9-mile radius of Spirit of St. Louis Airport, and within 2.5 miles each side of the 079° bearing from the Spirit of St. Louis Airport extending from the 6.9-mile radius of the airport to 8.1 miles east of the airport, and within 4.2 miles north and 6.4 miles south of the 079° bearing from the Spirit of St. Louis Runway 26L Localizer extending from the 6.9-mile radius of the Spirit of St. Louis Airport to 11.3 miles east of the Spirit of St. Louis Runway 26L Localizer, and within 3.9 miles each side of the 259° bearing from the Spirit of St. Louis Airport extending from the 6.9-mile radius of the airport to 10.6 miles west of the airport, and within a 6.4-mile radius of St. Charles County Smartt Airport, and within a 6.9-mile radius of St. Louis Regional Airport, and within 4 miles each side of the 014° bearing from the Civic Memorial NDB extending from the 6.9-mile radius of St. Louis Regional Airport to 7 miles north of the airport, and within 4.4 miles each side of the 190° radial of the St. Louis VORTAC extending from 2 miles south of the VORTAC to 22.1 miles south of the VORTAC.

Issued in Fort Worth, Texas, on January 29, 2018.
Christopher L. Southerland,
Acting Manager, Operations Support Group, ATO Central Service Center.

[FR Doc. 2018-02139 Filed 2-8-18; 8:45 am]

BILLING CODE 4910-13-P